DEPARTMENT OF COMMERCE

International Trade Administration

[A-570-148, C-570-149]

Gas Powered Pressure Washers From the People's Republic of China: Antidumping Duty and Countervailing Duty Orders

AGENCY: Enforcement and Compliance, International Trade Administration, Department of Commerce.

SUMMARY: Based on affirmative final determinations by the U.S. Department of Commerce (Commerce) and the U.S. International Trade Commission (ITC), Commerce is issuing antidumping duty (AD) and countervailing duty (CVD) orders on gas powered pressure washers (pressure washers) from People's Republic of China (China).

DATES: Applicable February 12, 2024.

FOR FURTHER INFORMATION CONTACT: Hermes Pinilla (AD) or Ted Pearson (CVD), AD/CVD Operations, Enforcement and Compliance, International Trade Administration, U.S. Department of Commerce, 1401 Constitution Avenue NW, Washington, DC 20230; telephone: (202) 482-3477 or (202) 482-2631, respectively.

SUPPLEMENTARY INFORMATION:

Background

In accordance with sections 705(d) and 735(d) of the Tariff Act of 1930, as amended (the Act), on December 21, 2023, Commerce published its affirmative final determination in the less-than-fair-value (LTFV) investigation of pressure washers from China ¹ and, on December 22, 2023, its affirmative final determination in the CVD investigation of pressure washers from China.²

¹ See Gas Powered Pressure Washers from the People's Republic of China: Final Affirmative Determination of Sales at Less Than Fair Value and Final Affirmative Determination of Critical Circumstances, 88 FR 88365 (December 21, 2023).

² See Gas Powered Pressure Washers from the People's Republic of China: Final Affirmative Countervailing Duty Determination and Final Affirmative Critical Circumstances Determination, in Part, 88 FR 88578 (December 22, 2023).

On February 5, 2024, pursuant to sections 705(d) and 735(d) of the Act, the ITC notified Commerce of its final determinations that an industry in the United States is materially injured by reason of LTFV imports of pressure washers from China and subsidized imports of pressure washers from China, within the meaning of sections 705(b)(1)(A)(i) and 735(b)(1)(A)(i) of the Act.³

³ See ITC's Letter, “Notification Letter: Investigation Nos. 701-TA-684 and 731-TA-1597 (Final),” dated February 5, 2024 (ITC Notification Letter).

Scope of the Orders

The products covered by these orders are gas powered pressure washers from China. For a complete description of the scope of these orders, see the appendix to this notice.

AD Order

As stated above, on February 5, 2024, in accordance with section 735(d) of the Act, the ITC notified Commerce of its final determination in this investigation in which it found that an industry in the United States is materially injured within the meaning of section 735(b)(1)(A)(i) of the Act by reason of imports of pressure washers from China that are sold at LTFV.⁴ Therefore, in accordance with section 735(c)(2) and 736 of the Act, Commerce is issuing this AD order. Because the ITC determined that imports of pressure washers from China are materially injuring a U.S. industry, unliquidated entries of such merchandise from China, entered or withdrawn from warehouse for consumption, are subject to the assessment of antidumping duties.

⁴ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of pressure washers from China. Antidumping duties will be assessed on unliquidated entries of pressure washers from China entered, or withdrawn from warehouse, for consumption, on or after August 3, 2023, the date of publication of the AD Preliminary Determination in the Federal Register, but will not include entries occurring after the expiration of the provisional measures period and before publication of the ITC's final injury determination, as further described in the “Provisional Measures—AD” section below.⁵

⁵ See Gas Powered Pressure Washers from the People's Republic of China: Preliminary Affirmative Determination of Sales at Less Than Fair Value, Preliminary Affirmative Critical Circumstances Determination, in Part, Postponement of Final Determination, and Extension of Provisional Measures, 88 FR 51279 (August 3, 2023) (AD Preliminary Determination), and accompanying Preliminary Decision Memorandum.

Continuation of Suspension of Liquidation—AD

Except as noted in the “Provisional Measures—AD” section of this notice, in accordance with section 735(c)(1)(B) of the Act, Commerce will instruct CBP to continue to suspend liquidation on all relevant entries of pressure washers from China. These instructions suspending liquidation will remain in effect until further notice.

Commerce will also instruct CBP to require cash deposits equal to the estimated weighted-average dumping margin indicated in the table below. Accordingly, effective on the date of publication in the Federal Register of the notice of the ITC's final affirmative injury determination, CBP will require, at the same time as importers would normally deposit estimated duties on subject merchandise, a cash deposit equal to the rate listed below.

Estimated Weighted-Average Dumping Margins

The estimated weighted-average dumping margins are as follows:

Exporter | Producer | Estimated weighted-average dumping margin (percent) | Cash deposit rate adjusted for export offset(s) (percent)
Jiangsu Jianghuai Engine Co., Ltd | Jiangsu Jianghuai Engine Co., Ltd | 274.37 | 263.83
Sumec Hardware and Tools Co., Ltd | Sumec Hardware and Tools Co., Ltd | 179.88 | 169.34
Zhejiang Danau Machine Co., Ltd | Zhejiang Danau Machine Co., Ltd | 179.88 | 169.34
China-Wide Entity |  | 274.37 | 263.83

Critical Circumstances—AD

With respect to the ITC's negative critical circumstances determination on imports of pressure washers from China, Commerce intends to instruct CBP to lift suspension and to refund any cash deposits made to secure the payment of estimated antidumping duties with respect to entries of the subject merchandise from China entered, or withdrawn from warehouse, for consumption on or after May 5, 2023 (i.e., 90 days prior to the date of the publication of the AD Preliminary Determination), but before August 3, 2023 (i.e., the date of publication of the AD Preliminary Determination).

Provisional Measures—AD

Section 733(d) of the Act states that suspension of liquidation pursuant to an affirmative preliminary determination may not remain in effect for more than four months, except where exporters representing a significant proportion of exports of the subject merchandise request that Commerce extend the four-month period to no more than six months. At the request of exporters that account for a significant proportion of pressure washers from China, Commerce extended the four-month period to six-months.⁶ In the underlying investigation, Commerce published the preliminary determination on August 3, 2023. Therefore, the extended period, beginning on the date of publication of the AD Preliminary Determination, ended on January 29, 2024. Furthermore, section 737(b) of the Act states that definitive duties are to begin on the date of publication of the ITC's final injury determination.

⁶ See AD Preliminary Determination.

The provisional measures period, beginning on the date of publication of the AD Preliminary Determination, ended on January 29, 2024. Therefore, in accordance with section 733(d) of the Act, Commerce will instruct CBP to terminate the suspension of liquidation and to liquidate, without regard to antidumping duties, unliquidated entries of pressure washers from China entered, or withdrawn from warehouse, for consumption after January 29, 2024, the final day on which the provisional measures were in effect, until and through the day preceding the date of publication of the ITC's final affirmative injury determinations in the Federal Register. Suspension of liquidation and the collection of cash deposits will resume on the date of publication of the ITC's final determination in the Federal Register.

CVD Order

As stated above, based on the above-referenced affirmative final determination by the ITC that an industry in the United States is materially injured within the meaning of section 705(b)(1)(A)(i) of the Act by reason of subsidized imports of pressure washers from China, in accordance with section 705(c)(2) of the Act, Commerce is issuing this CVD order.⁷

⁷ See ITC Notification Letter.

Therefore, in accordance with section 706(a) of the Act, Commerce intends to direct CBP to assess, upon further instruction by Commerce, countervailing duties on all relevant entries of pressure washers from China entered, or withdrawn from warehouse, for consumption on or after June 5, 2023, the date of publication of the CVD Preliminary Determination,⁸ but will not include entries occurring after the expiration of the provisional measures period and before the publication of the ITC's final injury determination under section 705(b) of the Act, as further described in the “Provisional Measures—CVD” section of this notice.

⁸ See Gas Powered Pressure Washers from the People's Republic of China: Preliminary Affirmative Countervailing Duty Determination, Preliminary Affirmative Critical Circumstances Determination, in Part, and Alignment of Final Determination with Final Antidumping Duty Determination, 88 FR 36531 (June 5, 2023) (CVD Preliminary Determination).

Suspension of Liquidation and Cash Deposits—CVD

In accordance with section 706 of the Act, Commerce will instruct CBP to reinstitute the suspension of liquidation of pressure washers from China, effective on the date of publication of the ITC's final affirmative injury determination in the Federal Register. These instructions suspending liquidation will remain in effect until further notice.

Commerce also intends, pursuant to section 706(a)(1) of the Act, to instruct CBP to require cash deposits equal to the amounts as indicated below. Accordingly, effective on the date of publication of the ITC's final affirmative injury determination in the Federal Register, CBP will require, at the same time as importers would deposit estimated normal customs duties on the subject merchandise, a cash deposit for each entry of subject merchandise equal to the subsidy rates listed below.⁹ The all-others rate applies to all producers or exporters not specifically listed below, as appropriate.

⁹ See section 706(a)(3) of the Act.

¹⁰ Commerce finds the following company to be cross-owned with JD Power: Jiangsu Nonghua Intelligent Agriculture Technology Co., Ltd.

Company | Subsidy rate (percent ad valorem)
Jiangsu Jianghuai Engine Co., Ltd.¹⁰ | 11.19
Chongqing Dajiang Power Equipment Co., Ltd | 206.57
China GTL Tools Group, Ltd | 206.57
Loncin Motor Co., Ltd | 206.57
Maxworld Home Co., Ltd | 206.57
Ningbo Jugang Machinery Manufacturing Co., Ltd | 206.57
Powerful Machinery & Electronics Technology Developing Co., Ltd | 206.57
Pinghu Biyi Cleaning Equipment Co., Ltd | 206.57
Senci Electric Machinery Co., Ltd | 206.57
Taizhou Bison Machinery Co., Ltd | 206.57
Taizhou Longfa Machinery Co., Ltd | 206.57
Taizhou Newland Machinery Co., Ltd | 206.57
Zhejiang Anlu Cleaning Machinery Co., Ltd | 206.57
Zhejiang Constant Power Machinery Co., Ltd | 206.57
Zhejiang Lingben Machinery & Electronics Co., Ltd | 206.57
Zhejiang Xinchang Bigyao Power Tool Co., Ltd | 206.57
Zhejiang Zhinanche Cleaning Equipment Co., Ltd | 206.57
All Others | 11.19

Provisional Measures—CVD

Section 703(d) of the Act states that the suspension of liquidation pursuant to an affirmative preliminary determination may not remain in effect for more than four months. Commerce published the CVD Preliminary Determination on June 5, 2023. As such, the four-month period beginning on the date of publication of the CVD Preliminary Determination ended on October 2, 2023. Pursuant to section 707(b) of the Act, the collection of cash deposits at the rates listed above will begin on the date of publication of the ITC's final affirmative injury determination.

Therefore, in accordance with section 703(d) of the Act, we instructed CBP to terminate the suspension of liquidation and to liquidate, without regard to countervailing duties, unliquidated entries of pressure washers from China entered, or withdrawn from warehouse, for consumption, on or after October 2, 2023, the date on which the provisional measures expired, until and through the day preceding the date of publication of the ITC's final injury determination in the Federal Register. Suspension of liquidation and the collection of cash deposits will resume on the date of publication of the ITC's final determination in the Federal Register.

Critical Circumstances—CVD

With regard to the ITC's negative critical circumstances determination on imports of pressure washers from China, we intend to instruct CBP to lift suspension and to refund any cash deposits made to secure the payment of estimated countervailing duties with respect to entries of the subject merchandise entered, or withdrawn, for consumption on or after March 7, 2023 (i.e., 90 days prior to the date of the publication of the CVD Preliminary Determination), but before June 5, 2023 (i.e., the date of publication of the CVD Preliminary Determination).

Establishment of the Annual Inquiry Service Lists

On September 20, 2021, Commerce published the Final Rule in the Federal Register.¹¹ On September 27, 2021, Commerce also published the Procedural Guidance in the Federal Register.¹² The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹³

¹¹ See Regulations to Improve Administration and Enforcement of Antidumping and Countervailing Duty Laws, 86 FR 52300 (September 20, 2021) (Final Rule).

¹² See Scope Ruling Application; Annual Inquiry Service List; and Informational Sessions, 86 FR 53205 (September 27, 2021) (Procedural Guidance).

¹³ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁴

¹⁴ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁵ the new annual inquiry service list will be in place until the following year, when the Opportunity Notice for the anniversary month of the order is published.

¹⁵ See Procedural Guidance.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁶ Accordingly, as stated above, the petitioner and Government of China should submit their initial entries of appearance after publication of this notice in order to appear in the first annual inquiry service lists for this order. Pursuant to 19 CFR 351.225(n)(3), the petitioner and the Government of China will not need to resubmit their entries of appearance each year to continue to be included on the annual inquiry service list. However, the petitioner and the Government of China are responsible for making amendments to their entries of appearance during the annual update to the annual inquiry service list in accordance with the procedures described above.

¹⁶ See Final Rule, 86 FR at 52335.

Notification to Interested Parties

This notice constitutes the AD and CVD orders with respect to pressure washers from China, pursuant to sections 736(a) and 706(a) of the Act. Interested parties can find a list of AD/CVD orders currently in effect at https://enforcement.trade.gov/stats/iastats1.html.

These AD and CVD orders are published in accordance with sections 706(a) and 736(a) of the Act, and 19 CFR 351.211(b).

Dated: February 6, 2024.
Ryan Majerus,
Deputy Assistant Secretary for Policy and Negotiations, performing the non-exclusive functions and duties of the Assistant Secretary for Enforcement and Compliance.

Appendix

Scope of the Orders

The merchandise covered by these orders are cold water gas powered pressure washers (also commonly known as power washers), which are machines that clean surfaces using water pressure that are powered by an internal combustion engine, air-cooled with a power take-off shaft, in combination with a positive displacement pump. This combination of components (i.e., the internal combustion engine, the power take-off shaft, and the positive displacement pump) is defined as the “power unit.” The scope of these orders cover cold water gas powered pressure washers, whether finished or unfinished, whether assembled or unassembled, and whether or not containing any additional parts or accessories to assist in the function of the “power unit,” including, but not limited to, spray guns, hoses, lances, and nozzles. The scope of the orders cover cold water gas powered pressure washers, whether or not assembled or packaged with a frame, cart, or trolley, with or without wheels attached.

The power washers subject to these orders have an unfinished and/or unassembled cold water gas powered pressure washer consists of, at a minimum, the power unit or components of the power unit, packaged or imported together. Importation of the power unit whether or not accompanied by, or attached to, additional components including, but not limited to a frame, spray guns, hoses, lances, and nozzles constitutes an unfinished cold water gas powered pressure washer for purposes of this scope. The inclusion in a third country of any components other than the power unit does not remove the cold water gas powered pressure washer from the scope. A cold water gas powered pressure washer is within the scope of these orders regardless of the origin of its engine. Subject merchandise also includes finished and unfinished cold water gas powered pressure washers that are further processed in a third country or in the United States, including, but not limited to, assembly or any other processing that would not otherwise remove the merchandise from the scope of these orders if performed in the country of manufacture of the in-scope cold water gas powered pressure washers.

The scope excludes hot water gas powered pressure washers, which are pressure washers that include a heating element used to heat the water sprayed from the machine.

Also specifically excluded from the scope of these orders is merchandise covered by the scope of the antidumping and countervailing duty orders on certain vertical shaft engines between 99cc and up to 225cc, and parts thereof from the People's Republic of China. See Certain Vertical Shaft Engines Between 99 cc and Up to 225cc, and Parts Thereof from the People's Republic of China: Antidumping and Countervailing Duty Orders, 86 FR 023675 (May 4, 2021).

The merchandise covered by these orders are classified in the Harmonized Tariff Schedule of the United States (HTSUS) at subheadings 8424.30.9000 and 8424.90.9040. Although the HTSUS subheadings are provided for convenience and customs purposes, the written description of the scope is dispositive.

[FR Doc. 2024-02902 Filed 2-9-24; 8:45 am]

BILLING CODE 3510-DS-P